DEPARTMENT OF THE INTERIOR

Bureau of Indian Affairs

[256A2100DD/AAKP300000/A0A501010.000000]

Indian Gaming; Extension of Tribal-State Class III Gaming Compacts in California

AGENCY: Bureau of Indian Affairs, Interior.

ACTION: Notice.

SUMMARY: This notice announces the extension of the class III gaming compacts between three Tribes in California and the State of California.

DATES: The extension takes effect on February 20, 2025.

FOR FURTHER INFORMATION CONTACT: Mr. Philip Bristol, (A)Director, Office of Indian Gaming, Office of the Assistant Secretary—Indian Affairs, Washington, DC 20240, IndianGaming@bia.gov; (202) 219-4066.

SUPPLEMENTARY INFORMATION: An extension to an existing Tribal-State class III gaming compact does not require approval by the Secretary if the extension does not modify any other terms of the compact. 25 CFR 293.5. The following Tribes and the State of California have reached an agreement to extend the expiration date of their existing Tribal-State class III gaming compacts to December 31, 2025: the Picayune Rancheria of Chukchansi Indians, Cher-Ae-Heights Indian Community of the Trinidad Rancheria, and the Augustine Band of Cahuilla Indians of California. This publication provides notice of the new expiration date of the compacts.

Bryan Mercier,
Director, Bureau of Indian Affairs, Exercising the delegated authority of the Assistant Secretary—Indian Affairs.

[FR Doc. 2025-02848 Filed 2-19-25; 8:45 am]

BILLING CODE 4337-15-P